FEDERAL RESERVE SYSTEM

12 CFR Part 225

[Regulation Y; Docket No. R-1057]

Bank Holding Companies and Change in Bank Control

AGENCY: Board of Governors of the Federal Reserve System.

ACTION: Interim rule; correction.

SUMMARY: This document corrects the preamble to an interim rule published in the Federal Register of March 21, 2000, regarding procedures for bank holding companies and foreign banks to elect to be treated as financial holding companies. This correction clarifies that depository institution subsidiaries of foreign banks electing financial holding company status must meet the same requirements as depository institution subsidiaries of bank holding companies electing financial holding company status.

DATES: This correction is effective March 15, 2000.

FOR FURTHER INFORMATION CONTACT: Ann Misback, 202-452-3788.

Correction

In interim rule FR Doc. No. 00-6049, beginning on 65 FR 15053 in the issue of March 21, 2000, make the following correction in the Summary section. On page 15053 in the second column beginning on the first line, remove the first sentence in its entirety and replace it with the following sentence:

“Second, in order to make the requirements for foreign banks consistent with the requirements imposed on bank holding companies, the Board is amending the interim rule to require that all U.S. depository institution subsidiaries (such as thrifts and nonbank trust companies) of electing foreign banks meet the same requirements as depository institution subsidiaries of bank holding companies.”

Dated: March 21, 2000.
Robert deV. Frierson,
Associate Secretary of the Board.

[FR Doc. 00-7432 Filed 3-27-00; 8:45 am]

BILLING CODE 6210-01-P